FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Aduanir Cargo & Courier Corp. (NVO & OFF), 5900 NW 79th Avenue, Doral, FL 33178, Officers: Anamar Del Castillo, Vice President (QI), Jesus Cachazo, President, Application Type: New NVO & OFF License.

AGRI Ocean Service, Inc. (NVO & OFF), 1952 McDowell Road, Suite 303, Naperville, IL 60563, Officers: Michael A. Mays, Vice President (QI), Hsiao C. Shyu, Shareholder, Application Type: New NVO & OFF License.

Allen Lund Company, LLC (NVO & OFF), 4529 Angeles Crest Highway, Suite 300, La Canada, CA 91011, Officers: Tanya J. Poston, Vice President (QI), Allen Lund, President, Application Type: QI Change.

Allround Forwarding Holding, Inc. (NVO & OFF), 134 West 26th Street, New York, NY 10001, Officers: Hatto H. Dachgruber, President (QI), John Wellock, Vice President, Application Type: Name Change to Allround Forwarding Co., Inc.

Alsea Global Logistics, LLC dba Alsea Global Logistics (NVO & OFF), 4836 SE Powell Blvd., Portland, OR 92706, Officers: Sandra K. Thoroughman, Operations Director (QI), Keith E. Ashcraft, Chief Executive Officer, Application Type: New NVO & OFF License.

Armada Services, LLC. (NVO & OFF), 519 S. Ellwood Avenue, 2nd Floor, Baltimore, MD 21224, Officer: Katrina N. Dill, Managing Member (QI), Application Type: New NVO & OFF License.

Atlant Consulting Inc. dba Avro Logistics (NVO & OFF), 3626 Geary Blvd., Suite 206, San Francisco, CA 94118, Officers: Tatyana Lizyura, Corporate Secretary, Konstantin Pletney-Veller, CEO, Application Type: New NVO & OFF License.

BeavEx Incorporated (NVO), 329 Air Freight Blvd., Nashville, TN 37217, Officers: David W. Hofer Jr., Vice President (QI), Mark Tuchmann, President, Application Type: New NVO License.

BFB North America Inc. dba Miami Ocean Carriers (NVO), 18503 Pines Blvd., Suite 206, Pembroke Pines, FL 33029, Officer: Cenovia Huanaquiri, President (QI), Application Type: New NVO License.

Blue Cargo Group, LLC (NVO & OFF), 10301 NW 108th Avenue, Suite 6, Miami, FL 33178, Officers: Paul Selvage, Member (QI), Steven Periman, Member/Manager, Application Type: Add Trade Name Blu Logistics and QI Change.

CCP International (Shipping) Inc. (OFF), 1717 Hyde Park Avenue, Hyde Park, MA 02136, Officers: Adeyemi J. Adegboyega, President (QI), Ademipo C. Adegboyega, Treasurer, Application Type: New OFF License.

Continental Connection LLC (NVO & OFF), 150 Sanctuary Ct., Columbus, OH 43235, Officer: David E. Day, Managing Member (QI), Application Type: New NVO & OFF License.

Eurybia Logistics, Inc. (NVO), 2560 Corporate Place, Suite D107, Monterey Park, CA 91754, Officer: Zhang Yi, President (QI), Application Type: New NVO License.

Global Relocation Inc (NVO), 250 Pehle Avenue, Suite #200, Saddle Brook, NJ 07663, Officers: Farah Alhomsi, Vice President (QI), Rami Zubidat, President, Application Type: New NVO License.

JAG Cargo Inc. (OFF), 7520 SW 107th Avenue, Apt. 107, Miami, FL 33173, Officers: Javier A. Garcia, President (QI), Pedro O. Garcia, Treasurer, Application Type: New OFF License.

Laser International Transportation Incorporated (NVO), 1940 Internationale Parkway, Suite 300, Woodridge, IL 60517, Officer: Joseph P. Specht Jr., President (QI), Application Type: New NVO License.

LH Global Inc. (NVO), 2737 Brook Avenue, Oceanside, NY 11572, Officers: Guilan He, Vice President (QI), Xiao Ying Liu, President, Application Type: New NVO License.

Miragrown Logistics Corporation (NVO), 2370 West Carson Street, Suite 130, Torrance, CA 90501, Officers: Katie Lee, Secretary (QI), Zhimin Wei, President, Application Type: New NVO License.

Morgan Systems, Inc. (NVO & OFF), 1500 Cedar Grove Road, Conley, GA 30288, Officers: David C. McCormack, Vice President (QI), David G. Morgan, Owner, Application Type: New NVO & OFF License.

Popi Trading, Inc. dba Liner American Services N.A. (OFF), 225 Broadway, Suite 2701, New York, NY 10007, Officers: Pablo Silva, President (QI), Ana Belen Perez, Secretary, Application Type: New OFF License.

Rodi International Corp. (NVO & OFF), 2801 NW 74th Avenue, Suite 200, Miami, FL 33122, Officers: Dorian F. Rodriguez, President (QI), Doris Del Castillo, Secretary, Application Type: New NVO & OFF License.

Safari Cargo, LLC (NVO & OFF), 7007 Gulfway Freeway, Suite 107, Houston, TX 77087, Officer: Maged L. Ghazi, Member (QI), Application Type: New NVO & OFF License.

Stoneland Global Logistics, Inc. (NVO & OFF), 19051 Kenswick Drive, Suite 170, Humble, TX 77338, Officers: Jorge A. Moreno, Vice President (QI), Robert Shannon, President, Application Type: New NVO & OFF License.

Straight Point Line Inc. (NVO & OFF), 72 Sharp Street, Suite C11, Hingham, MA 02043, Officer: Paul F. Kalita, President (QI), Application Type: Name Change to Outsource, Inc.

Topp Cargo & Logistics, LLC (NVO & OFF), 8000 NW 29th Street, Miami, FL 33122, Officers: Adrian Martinez, Operations Manager (QI), Jose G. Suarez, Sales Manager, Application Type: QI Change.

UBA Express Cargo, Corp. (NVO), 10350 West Flagler Street, Miami, FL 33174, Officer: Martha E. Rivas, President (QI), Application Type: New NVO License.

Ucans Global, Inc (NVO), 1420 Francisco Street, Torrance, CA 90501, Officer: Jaden O. Lee, President (QI), Application Type: New NVO License.

By the Commission.
Dated: July 15, 2013.
Karen V. Gregory,
Secretary.

[FR Doc. 2013-17308 Filed 7-18-13; 8:45 am]

BILLING CODE 6730-01-P